LEGAL SERVICES CORPORATION

Notice of Availability of 2002 Competitive Grant Funds for Service Area MI-1, MI-2, MI-3, MI-4, MI-5, MI-6, MI-7, MI-8, MI-9, MI-10, and MI-11 in Michigan

AGENCY: Legal Services Corporation.

ACTION: Solicitation of Proposals for the Provision of Civil Legal Services for Basic Field-General service areas MI-1, MI-2, MI-3, MI-4, MI-5, MI-6, MI-7, MI-8, MI-9, MI-10, and MI-11 in Michigan.

SUMMARY: The Legal Services Corporation (LSC) is the national organization charged with administering federal funds provided for civil legal services to the poor. Congress has adopted legislation requiring LSC to utilize a system of competitive bidding for the award of grants and contracts.

LSC hereby announces that it is reopening competition for 2002 competitive grant funds and is soliciting grant proposals from interested parties who are qualified to provide effective, efficient and high quality civil legal services to the eligible client population in the Basic Field General service areas in Michigan. The exact amount of congressionally appropriated funds and the date and terms of their availability for calendar year 2002 are not known, although it is anticipated that the funding amount will be similar to calendar year 2001 funding. LSC has canceled the competition and rejected all bids for Michigan service areas MI-12, MI-13, MI-14, and MI-15.

DATES: Request for Proposals(RFP) are available from www.ain.lsc.gov. A Notice of Intent to Compete is due by 5:00 p.m. EDT, July 30, 2001. Grant proposals must be received at LSC offices by 5:00 p.m. EDT, September 4, 2001.

ADDRESSES: Legal Services Corporation—Competitive Grants, 750 First Street NE., 10th Floor, Washington, DC 20002-4250.

FOR FURTHER INFORMATION CONTACT: Jennifer Bateman, Grants Coordinator, Office of Program Performance, (202) 336-8835.

SUPPLEMENTARY INFORMATION: LSC is seeking proposals from non-profit organizations that have as a purpose the furnishing of legal assistance to eligible clients, and from private attorneys, groups of private attorneys or law firms, state or local governments, and substate regional planning and coordination agencies which are composed of substate areas and whose governing boards are controlled by locally elected officials.

The solicitation package, containing the grant application, guidelines, proposal content requirements and specific selection criteria, is available at www.ain.lsc.gov.

Dated: July 10, 2001.
Victor M. Fortuno,
Vice President for Legal Affairs, General Counsel and Corporate Secretary.

[FR Doc. 01-17610 Filed 7-12-01; 8:45 am]

BILLING CODE 7050-01-P